DEPARTMENT OF COMMERCE

National Oceanic and Atmospheric Administration

RIN: 0648-XP27

North Pacific Fishery Management Council; Public Meetings

AGENCY: National Marine Fisheries Service (NMFS), National Oceanic and Atmospheric Administration (NOAA), Commerce.

ACTION: Notice of public meetings of the North Pacific Fishery Management Council and its advisory committees.

SUMMARY: The North Pacific Fishery Management Council (Council) and its advisory committees will hold public meetings, June 1-9, 2009, at the Anchorage Hilton Hotel, 500 West 3rd Avenue, Anchorage, AK.

DATES: The Council will begin its plenary session at 8 a.m. on Wednesday June 3 continuing through Tuesday June 9, 2009. The Council's Advisory Panel (AP) will begin at 8 a.m., Monday, June 1 and continue through Saturday June 6. The Scientific and Statistical Committee (SSC) will begin at 8:00 a.m. on Monday, June 1 and continue through Wednesday June 3, 2009. All meetings are open to the public, except executive sessions.

ADDRESSES: The meetings will be held at the Anchorage Hilton Hotel, 500 W 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: Council Plenary Session: The agenda for the Council's plenary session will include the following issues. The Council may take appropriate action on any of the issues identified.

1. Reports

Executive Director's Report (including review of Statement of Organization, Practices and Procedures (SOPPs)

NMFS Management Report

Alaska Department of Fish & Game Report

NOAA Enforcement Report

U.S. Coast Guard Report

U.S. Fish & Wildlife Service Report

Protected Species Report (Including update on Steller Sea Lion Biological Opinion)

2. Gulf of Alaska (GOA) Groundfish Issues: Review alternatives for Central GOA Rockfish Program; review alternatives for parallel waters issue in Pacific cod sector split; review discussion paper on GOA vessel capacity (T).

3. BSAI Fixed Gear Parallel Fisheries: Final action on amendment to limit access in Pacific cod parallel waters fishery.

4. BSAI Crab Program: Initial review of Emergency Delivery Relief analysis; review discussion papers; Rights of First Refusal (ROFR), Western Aleutian Island golden king crab regionalization and Processing Quota (PQ) issues, extinguishing crab PQ, and Leasing restrictions (T); discuss plan for 5-year review of the program and provide direction; approve Stock Assessment Fishery Evaluation report and refine crab rebuilding plan alternatives.

5. Bering Sea Salmon Bycatch: Refine alternatives for the chum salmon bycatch analysis; receive discussion paper and committee report on salmon bycatch data collection.

6. Marine Protection Act Nomination Process: Review status and discuss next steps (T).

7. National Issues: Initial review of analysis to establish permit fees for all fisheries; discuss workplan to meet Annual Catch Limits (ACL) requirements and take action as necessary.

8. Groundfish Issues: Initial review analysis of bottom trawl gear sweep requirements; Initial review of analysis to set catch specifications for the BSAI skate complex.

9. Ecosystem issues: Status report on the Habitat Area of Particular Concern (HAPC); Review of the Northern Bering Sea Research Plan.

10. Staff Tasking: Review Committees and tasking; discuss Rural Outreach Committee activities; review groundfish policy objectives and workplan.

11. Other Business

The SSC agenda will include the following issues:

1. BSAI Crab Program

2. Salmon Bycatch Data Collection Committee Report

3. National Issues

4. Ecosystem Issues

The Advisory Panel will address most of the same agenda issues as the Council, except for #1 reports. The Agenda is subject to change, and the latest version will be posted at http://www.fakr.noaa.gov/npfmc/.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: May 13, 2009.
Tracey L. Thompson,
Acting Director, Office of Sustainable Fisheries, National Marine Fisheries Service.

[FR Doc. E9-11473 Filed 5-15-09; 8:45 am]

BILLING CODE 3510-22-S